DEPARTMENT OF EDUCATION

Applications for New Awards; Technical Assistance and Dissemination To Improve Services and Results for Children With Disabilities—Transition to College and Careers Center

AGENCY: Office of Special Education and Rehabilitative Services, Department of Education.

ACTION: Notice.

Overview Information: Technical Assistance and Dissemination to Improve Services and Results for Children with Disabilities—Transition to College and Careers Center; Notice inviting applications for new awards for fiscal year (FY) 2011.

Catalog of Federal Domestic Assistance (CFDA) Number: 84.326J.

Dates: Applications Available: August 9, 2011. Deadline for Transmittal of Applications: September 8, 2011.

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute or otherwise authorized in the statute (see sections 663 and 681(d) of the Individuals with Disabilities Education Act (IDEA), 20 U.S.C. 1463 and 1481(d)).

Absolute Priority: For FY 2011 and any subsequent year in which we make awards based on the list of unfunded applicants from this competition, this priority is an absolute priority. Under 34 CFR 75.105(c)(3) we consider only applications that meet this priority.

This priority is:

Technical Assistance and Dissemination To Improve Services and Results for Children With Disabilities—Transition to College and Careers Center

Background:

The Department is committed to the goal of ensuring that every child is on track to graduate from high school with the knowledge and skills needed for success in college and careers. Under Part B of IDEA, State educational agencies (SEAs) and local educational agencies (LEAs) must ensure that the individualized education programs (IEPs) of children with disabilities who turn 16, or younger if determined appropriate by the IEP Team,¹ include appropriate, measurable postsecondary goals in specified areas and the transition services ² needed to assist the child in reaching those goals. The postsecondary goals and transition services components in the IEPs of eligible students with disabilities must be updated annually thereafter (20 U.S.C. 1414(d)(1)(A)(VIII)). The SEA must also have in effect policies and procedures related to interagency agreements or other mechanisms for interagency coordination to meet its obligation related to, and methods of, ensuring transition services for students with disabilities (20 U.S.C. 1412(a)(12)).

¹ As used here, an IEP is a written statement for each child with a disability that is developed, reviewed, and revised in a meeting in accordance with 34 CFR 300.320 through 300.324 (34 CFR 300.320(a)). The term IEP Team means a group of individuals described in 34 CFR 300.321 that is responsible for developing, reviewing, or revising an IEP for a child with a disability (34 CFR 300.23). An IEP Team includes both parents and school officials. Additionally, if a purpose of an IEP Team meeting will be the consideration of the postsecondary goals for the student and the transition services needed to assist the student in reaching those goals, the student must be invited to attend that meeting (34 CFR 300.321(b)(1)). Also, to the extent appropriate, with the consent of the parents or a student who has reached the age of majority, the public agency must invite a representative of any participating agency that is likely to be responsible for providing or paying for transition services to an IEP Team meeting where postsecondary goals and transition services are considered (34 CFR 300.321(b)(3)).

² The term transition services means a coordinated set of activities for a child with a disability that—(A) Is designed to be within a results-oriented process, that is focused on improving the academic and functional achievement of the child with a disability to facilitate the child's movement from school to post-school activities, including post-secondary education, vocational education, integrated employment (including supported employment), continuing and adult education, adult services, independent living, or community participation; (B) is based on the individual child's needs, taking into account the child's strengths, preferences, and interests; and (C) includes instruction, related services, community experiences, the development of employment and other post-school adult living objectives, and, when appropriate, acquisition of daily living skills and functional vocational evaluation. (20 U.S.C. 1401(34)).

Effective transition services are directly linked to better post-school outcomes for students with disabilities (National Alliance for Secondary Education and Transition (NASET), 2005; Test, Fowler, Richter, White, Mazzotti, Walker, Kohler & Kortering, 2009; Test, Mazzotti, Mustian, Fowler, Kortering & Kohler, 2009). Researchers have identified evidence-based practices for transition services (e.g., teaching employment skills using community-based instruction, encouraging and facilitating self-directed IEPs, teaching parents and families about transition, and structuring programs to extend services beyond secondary school) that help to improve student outcomes and better prepare students for college, other postsecondary education and training, and the workforce (Cobb & Alwell, 2009; NASET, 2005; Test, Fowler et al., 2009; Test, Mazzotti et al., 2009). Further, a review of research and practice indicates that LEAs and schools can implement and scale-up evidence-based practices with fidelity when proper supports, such as ongoing consultation and coaching for key staff, regular evaluation of staff performance, and data-based decision-making, are in place (Fixsen, Naoom, Blasé, Friedman, & Wallace, 2005). To improve postsecondary success for students with disabilities, LEAs and schools need more support in ensuring the delivery and implementation of effective transition services (Landmark, Ju, & Zhang, 2010).

President Obama has established a goal that by 2020, the United States will once again have the highest proportion of college graduates in the world. To accomplish this goal, we need to better prepare all high school students for postsecondary education and employment; students with disabilities will need more preparation for these post-school outcomes than most. Data suggest that many high school students are underprepared to enter postsecondary education and employment settings (Casner-Lotto & Barrington, 2006; U.S. Department of Education, 2004). The National Longitudinal Transition Study (NLTS-2) reports considerable gaps in achievement in the core academic subjects between students with disabilities and their non-disabled peers and suggests that students with disabilities are less likely to enroll in postsecondary education programs (Newman, Wagner, Cameto, & Knokey, 2009; Wagner, Newman, Cameto, & Levine, 2006). Students with disabilities are also less likely to enter post-school employment. The U.S. Department of Labor's Bureau of Labor Statistics (BLS) reported that in May of 2009, only 22.9 percent of individuals with disabilities—as compared to 71.1 percent of the general population—were in the workforce (BLS, 2009). Post-school outcomes are even more discouraging for particular subpopulations of individuals with disabilities, including individuals with emotional disturbance or intellectual disabilities and those from culturally and linguistically diverse backgrounds (Newman et al., 2009).

To improve post-school outcomes for students with disabilities, LEAs and schools need support in (1) Accessing or establishing programs and initiatives designed to ensure college- and career-readiness, such as more challenging or alternative courses, as well as work-based learning experiences; ³ and (2) facilitating the participation and completion in those programs and initiatives of students with disabilities. Researchers and policymakers suggest that enrollment in more rigorous, academically intense programs (e.g., Advanced Placement [AP] or dual high school and college enrollment) in high school can prepare students, including those with previously low achievement levels, to enroll and persist in postsecondary education at higher rates than similar students who pursue less challenging courses of study (Adelman, 2006; College Board, 2010; Karp, Calcagno, Hughes, Jeong, Bailey, 2007; Tierney, Bailey, Constantine, Finkelstein, & Hurd, 2009). In addition, the use of context-based approaches in which academic content and career and technical education curricula are integrated has resulted in improved student performance on standardized measures of math and literacy achievement (Pearson, Sawyer, Park, Santamaria, van der Mandele, Keene, Taylor, 2010; Stone, Alfeld, Pearson, Lewis, Jensen, 2006). Preparing students with disabilities for successful post-school outcomes also involves assisting them in improving their achievement of functional skills.⁴ In a study of the functional achievement of students with disabilities, a substantial number of youth with disabilities were rated at the lowest performing level when compared to their non-disabled peers (Wagner et al, 2006). Researchers have identified evidence-based practices that improve functional skills in activities such as balancing a checkbook and purchasing groceries (Ayers, Langone, Boon, & Norman, 2006); and locating, carrying, and purchasing items in stores (Alberto, Cihak, & Gama, 2005; Bates, Cuvi, Miner & Korabek, 2001; Cihak, Alberto, Kessler, & Taber, 2004). Researchers have also identified evidence-based practices that support gains in social skills, work-related interpersonal skills, interviewing skills, job maintenance skills, and specific job-related skills (Izzo, Cartledge, Miller, Growick, & Rutkowski, 2000). Finally, work-based learning experiences—ranging from job shadowing to internships and apprenticeships—are essential for preparing students with disabilities with the knowledge and skills needed for success in the workforce (Lynn & Mack, 2008; Symonds, Schwartz & Ferguson, 2011).

³ In the past, the Department helped to support a Youth to Work Coalition (YWC)—a group of Federal agencies, businesses, and foundations—to assist businesses in creating or enhancing internship and mentoring programs focused on engaging youth with disabilities and providing them with meaningful work-based learning experiences. Developing relationships between schools and community employers with regard to internship and mentoring programs is a key strategy for connecting students with disabilities to work-based learning experiences while still in high school (Carter, Trainor, Cakiroglu, Cole, Swedeen, Ditchman & Owens, 2009).

⁴ As used here, functional skills refer to four cluster areas (motor skills, social interaction and communication, personal living skills, and community living skills) (Wagner et al, 2006).

In addition to funding research on improving post-school outcomes for students with disabilities, the Department's Office of Special Education Programs (OSEP) monitors States in certain priority areas,⁵ using specific indicators. States are required to monitor their LEAs using most of those same indicators (20 U.S.C. 1416(a)(3)). States report data related to 20 indicators in their IDEA, Part B State Performance Plan/Annual Performance Report (SPP/APR). IDEA, Part B Indicator 13 (Indicator 13), which concerns IEP requirements related to postsecondary goals and transition services, is a compliance indicator, and States are required to meet a 100 percent target for this indicator.⁶ In addition, States collect and use Indicator 13 data, in part, to assess their LEAs' implementation of these IEP requirements. In the past 5 years, OSEP has funded the National Secondary Transition Technical Assistance Center (NSTTAC) (http://www.nsttac.org) to support States to develop, implement, and improve transition services and to collect and use Indicator 13 data (http://www.nsttac.org). According to an analysis conducted by NSTTAC (2009), States initially reported relatively low levels of compliance with Indicator 13. However, in the Federal Fiscal Year (FFY) 2009 SPP/APR, (submitted February 1, 2011 for the period covering July 1, 2009 through June 30, 2010), 60 percent of States reported Indicator 13 data that ranged between 80 percent and 100 percent compliance (NSTTAC, in press). All States are required to meet Indicator 13's 100 percent compliance target.

⁵ These priority areas are: provision of a free appropriate public education in the least restrictive environment; State exercise of general supervisory authority, including child find, effective monitoring, the use of resolution sessions, mediation, voluntary binding arbitration, and a system of transition services as defined in section 602(34) and 637(a)(9) of IDEA; and disproportionate representation of racial and ethnic groups in special education and related services, to the extent the representation is the result of inappropriate identification. (20 U.S.C. 1416(a)(3)).

⁶ Indicator 13 has been revised, and States reported data on the revised Indicator 13 for the first time in the Federal Fiscal Year 2009 SPP/APR, (submitted February 1, 2011 for the period covering July 1, 2009 through June 30, 2010). The text of Indicator 13 can be found at http://www2.ed.gov/policy/speced/guid/idea/bapr/2010/b2-1820-0624bmeastable111210.doc.

To further improve their compliance with Indicator 13, States indicated that they will need to provide LEAs and their stakeholders (e.g., parents, vocational rehabilitation counselors, postsecondary education disability service providers) with: (1) Training or professional development; (2) TA; (3) information on how to improve data collection and reporting; (4) assistance with clarifying, examining, or developing policies and procedures; and (5) strategies for improving collaboration and coordination among transition services providers (NSTTAC, 2009). States continue to need TA in order to build their capacity to meet IDEA, Part B's postsecondary goals and transition services requirements and meet the 100 percent target for compliance with Indicator 13. States also continue to need TA to ensure that all students are well prepared for college (or other postsecondary education and training) and the workforce.

The Department proposes to support a Transition to College and Careers Center (Center) to assist States and LEAs with developing appropriate, measurable postsecondary goals and implementing transition services that result in improved academic and functional achievement of students with disabilities and a successful transition to college (or other postsecondary education and training) and the workforce. The Center's scope of work would include activities that are focused on supporting the implementation of evidence-based practices for transition services and facilitating and increasing the participation of students with disabilities in programs and initiatives to ensure college- and career-readiness (e.g., AP courses, dual high school and college enrollment programs, career and technical education, and work-based learning experiences).

Priority:

The purpose of this priority is to fund a cooperative agreement to support the establishment and operation of a Transition to College and Careers Center that will provide TA and disseminate useful information to SEAs, LEAs, schools, and other stakeholders to improve the: (1) Implementation and scaling up ⁷ of evidence-based practices ⁸ to assist SEAs and LEAs in the development of appropriate measurable postsecondary goals and the implementation of the transition services (as defined in section 602(34) of IDEA) that will lead to improved academic and functional ⁹ achievement for students with disabilities and prepare them for college or other postsecondary education and training and the workforce; (2) implementation of SEA and LEA policies, procedures, and practices that facilitate and increase the participation of students with disabilities in programs and initiatives that are designed to ensure college- and career-readiness; and (3) achievement of compliance with the 100 percent target for IDEA, Part B Indicator 13 so that SEAs and LEAs can develop, implement, and annually update IEPs for eligible students with disabilities, generally age 16 and above, that contain appropriate measurable postsecondary goals and the transition services, as defined in section 602(34) of IDEA, needed to assist students in reaching those goals. These activities will support SEA and LEA efforts to ensure that all students with disabilities are prepared for college (or other postsecondary education and training) and the workforce.

⁷ For the purposes of this priority, scale-up means to reach “a tipping point at which at least 60 percent of the students who could benefit from an innovation are experiencing it in their educational setting. To scale-up innovations, a State must first scale-up implementation capacity in all districts in the State”. (State Implementation and Scaling-Up of Evidence-Based Practices Center (http://www.scalingup.org)).

⁸ For the purposes of this priority, evidence-based practices means practices for which there is “strong evidence” or “moderate evidence” of effectiveness as defined in the Department's notice of final supplemental priorities and definitions for discretionary grant programs, published in the Federal Register on December 15, 2010 (75 FR 78486).

⁹ For the purposes of this priority, functional is used as described in the Analysis of Comments and Changes section of the preamble to the final regulations in 34 CFR parts 300 and 301, (Assistance to States for the Education of Children with Disabilities and Preschool Grants for Children with Disabilities), published in the Federal Register on August 14, 2006 (71 FR 46540, 46661). Although not defined in the regulations, the term is generally understood to refer to “skills or activities that are not considered academic or related to a child's academic achievement, * * * [but] is often used in the context of routine activities of everyday living.”

To be considered for funding under this absolute priority, applicants must meet the application requirements contained in this priority. Any project funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web sites provide more information on logic models: http://www.researchutilization.org/matrix/logicmodel_resource3c.html and http://www.tadnet.org/model_and_performance.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for a summative evaluation to be conducted by an independent third party;

(e) A budget for attendance at the following:

(1) A one and one half day kick-off meeting to be held in Washington, DC, within four weeks after receipt of the award, and an annual planning meeting held in Washington, DC, with the OSEP Project Officer during each subsequent year of the project period.

(2) A three-day Project Directors' Conference in Washington, DC, during each year of the project period.

(3) A two-day Technical Assistance and Dissemination Conference in Washington, DC, during each year of the project period.

(4) A two-day OSEP Leadership Mega Conference in Washington, DC, during each year of the project period.

(5) One one-day trip annually to attend Department briefings, Department-sponsored conferences, and other meetings, as requested by OSEP; and

(f) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities.

(a) Conduct a comprehensive review of studies and related evidence and prepare papers that synthesize the research on policies and practices related to the transition of students with disabilities to postsecondary education or a workforce setting (secondary transition) and college- and career-readiness among students with disabilities. In conducting the review of studies and related evidence, the Center must use standards that are consistent with those used by the What Works Clearinghouse and the definitions of strong evidence and moderate evidence contained in the Definitions section of the notice of final supplemental priorities and definitions for discretionary grant programs, published in the Federal Register on December 15, 2010 (75 FR 78486). The papers must present the research in a format that is accessible to the Center's relevant audiences, including SEAs, LEAs, and schools, and clearly articulate the strength (i.e., internal validity) and the breadth (i.e., external validity) of the research supporting the policies or practices described, and provide useful recommendations based on the research that can be incorporated into the Center's TA activities. These papers must be subject to external peer review. Topics for these papers may include, but are not limited to SEA, LEA, and school policies and practices that—

(1) Support the effective implementation and scaling up of evidence-based practices (e.g., teaching employment skills using community-based instruction, encouraging and facilitating self-directed IEPs, teaching parents and families about transition, and structuring programs to extend services beyond secondary school) at the local level in developing appropriate postsecondary goals and implementing transition services, including effective strategies for developing and sustaining interagency linkages and collaboration between secondary school systems and other systems such as: Institutions of higher education (e.g., two- and four- year institutions), adult service agencies (e.g., vocational rehabilitation and workforce development systems), career and technical education systems, and other postsecondary training programs (e.g., Job Corps);

(2) Improve postsecondary outcomes for students with disabilities across disability categories and severity levels, including particular subpopulations that tend to have the poorest postsecondary outcomes, such as individuals with emotional disturbance or intellectual disabilities and those from culturally and linguistically diverse backgrounds; and

(3) Facilitate the participation and completion of students with disabilities in programs and initiatives designed to ensure college- and career-readiness (e.g., AP courses, dual high school and college enrollment programs, career and technical education, and work-based learning experiences).

(b) Conduct an analysis of IDEA, Part B State APRs and other sources of information to determine the current status of the development of appropriate postsecondary goals and the implementation of transition services that support improved performance or create barriers to improved performance.

Technical Assistance and Dissemination Activities

(a) Provide a continuum of general TA and conduct dissemination activities (e.g., managing Web sites, listservs, and communities of practice; and holding conferences and training institutes) on implementing—

(1) Evidence-based practices that help to improve the academic and functional achievement of students with disabilities, including particular subpopulations of students with disabilities that tend to have the poorest outcomes, and prepare them for college (or other postsecondary education and training) and the workforce; and

(2) Policies and practices that facilitate the participation of students with disabilities in programs and initiatives designed to ensure college- and career-readiness (e.g., AP courses, dual high school and college enrollment programs, career and technical education, and work-based learning experiences).

(b) Maintain a Web site that meets government or industry-recognized standards for accessibility and that links to the Web site operated by the Technical Assistance Coordination Center (TACC).

(c) Prepare and disseminate reports, documents, and other materials, including publications in peer-reviewed journals, on developing appropriate postsecondary goals and implementing transition services and related topics as requested by OSEP for specific audiences including students, teachers, educators, rehabilitation counselors, families, administrators, policymakers, and researchers. In consultation with the OSEP Project Officer, make selected reports, documents, and other materials available in both English and Spanish.

(d) Develop materials and guidance for States and provide TA related to Indicator 13 on their APRs and SPPs, as requested by OSEP.

(e) Improve data collection and reporting systems at the State and local level related to the development of postsecondary goals and implementation of transition services.

(f) Host an annual national forum for researchers, policymakers, administrators, practitioners, and other appropriate stakeholders to exchange information on developing appropriate postsecondary goals and implementing transition services designed to prepare students with disabilities for college (or other postsecondary education and training) and the workforce.

(g) Identify, in each year of the project period, a minimum of five States to receive intensive TA¹⁰ from the Center. The purpose of the intensive TA will be to assist these States in supporting effective implementation of evidence-based practices at the SEA, LEA, and school levels, and using effective methods to scale-up the use of evidence-based practices. The dissemination of the Center's work (as described in paragraph (c) in Technical Assistance and Dissemination Activities) will enhance the capacity of all States to support their LEAs and schools in implementing and scaling up the use of evidence-based practices.

¹⁰ For the purposes of this priority, intensive TA means TA services that require a stable, on-going negotiated relationship between the TA Center staff and the TA recipient, and include a purposeful, planned series of activities designed to reach an outcome that is valued by the host organization. Intensive TA typically results in changes to policy, program, practice, or operations that support increased recipient capacity and/or improved outcomes at one or more systems levels (State Implementation and Scaling-Up of Evidence-Based Practices Center (Fixen, Blasé, Horner,& Sugai, 2009).

In its application, an applicant must describe both the process and the selection criteria that the Center will use to identify the States that will receive the intensive TA. The Center must obtain approval from OSEP before finalizing the selection criteria and making the final selection of States that will receive intensive TA. Once a State is selected, the Center must work with that State for the entire project period. (The Center must identify a minimum of five States the first year of the project period and a minimum of five more States in each of the second and third years of the project period, so that by the end of the project period, it is working with at least 15 States in total). The Center must provide each of these States with intensive TA in the State's first year of working with the Center. In each subsequent year the Center will provide less intensive TA devoted to resolving any remaining TA needs of the State. The Center must perform a thorough analysis of the State's needs and engage in frequent communication with the State to determine how these needs can be met. The needs assessments must be designed to identify the barriers that students with disabilities face in accessing not only the programs and initiatives designed to ensure college- and career-readiness but also the supports that are needed for successful implementation and sustainability of evidence-based practices in developing appropriate postsecondary goals and implementing effective transition services. After providing the first year of TA to the State, the Center must analyze the State's Indicator 13 data (in conjunction with other relevant information) annually for the remaining project period to inform an assessment of the State's need for any additional TA and to evaluate the impact of previous TA interventions.

(h) Produce a summary of the results of the needs assessments conducted as a part of the intensive TA activities described in paragraph (g) of Technical Assistance and Dissemination Activities.

Leadership and Coordination Activities.

(a) Develop collaborative partnerships with business organizations that promote employment of individuals with disabilities, such as the U.S. Business Leadership Network and the National Business and Disability Council, to create and support the operation of a Youth to Work Coalition, which is a group of Federal agencies, businesses, and foundations that will conduct activities to expand work-based learning experiences for students with disabilities. The Center, through these partnerships, must—

(1) Establish and coordinate a network of experts to provide TA to employers on establishing internships or mentoring programs for students with disabilities; and

(2) Develop tools that are designed to assist employers and schools to support work-based learning experiences.

(b) Compile and share data, as directed by OSEP, on States' APRs and updated SPPs for Indicator 13 by—

(1) Reviewing relevant sections of each State's APR and updated SPP and summarizing the data on Indicator 13;

(2) Developing a summary report for Indicator 13 that includes information about States' progress in meeting targets for the indicator, as well as any revisions made to States' monitoring and data systems, measurement systems, or improvement strategies; and

(3) Providing this summary report to OSEP in a timely manner and participating in OSEP-requested teleconferences to discuss the findings of the summary report.

(c) Establish and maintain an advisory committee to review the activities and outcomes of the Center and provide programmatic support and advice throughout the project period. At a minimum the advisory committee must convene annually, whether in person, by phone, or another means, and must represent the perspectives of individuals with disabilities or family members of students with disabilities, students, school-level transition specialists, State transition administrators, general education teachers or administrators, vocational rehabilitation counselors or administrators, postsecondary education disability service providers, adult service agencies, and other appropriate stakeholders. The Center must submit the names of proposed members of the advisory committee to OSEP for approval within eight weeks after receipt of the award.

(d) Communicate and collaborate, on an ongoing basis, with other projects funded by the U.S. Department of Education, such as the National Dropout Prevention Center for Students with Disabilities, the National Post-school Outcomes Center, the National High School Center, the Regional Resource Centers, the IDEA Partnership Project, the Postsecondary Education Programs Network, the National Alliance Technical Assistance Center, the Technical Assistance on Transition and Rehabilitation Act Project, and the National Research Center for Career and Technical Education. This collaboration could include the joint development of products, the coordination of TA services, and the planning and carrying out of TA meetings and events.

(e) Participate in, organize, or facilitate communities of practice that align with the needs of the Center's target audience. Communities of practice should align with the Center's objectives to support discussions and collaboration among key stakeholders. The following Web site provides more information on communities of practice: http://www.tadnet.org/communities.

(f) Prior to developing any new product, submit a proposal for the product to the TACC database for approval from the OSEP Project Officer. The development of new products should be consistent with the product definition and guidelines posted on the TACC Web site (http://www.tadnet.org).

(g) Contribute, on an ongoing basis, updated information on the Center's approved and finalized products and services to the TACC database.

(h) Coordinate with the National Dissemination Center for Individuals with Disabilities (http://www.nichcy.org) to develop an efficient and high-quality dissemination strategy that reaches broad audiences. The Center must report to the OSEP Project Officer the outcomes of these coordination efforts.

(i) Maintain ongoing communication with the OSEP Project Officer through monthly phone conversations and e-mail communication.

References

Adelman, C. (2006). The toolbox revisited: Paths to degree completion from high school through college. Washington, DC: U.S. Department of Education. Retrieved from http://www.ed.gov/rschstat/research/pubs/toolboxrevisit/toolbox.pdf.

Alberto, P.A., Cihak, D.F., & Gama, R.I. (2005). Use of static picture prompts versus video modeling during simulation instruction. Research in Developmental Disabilities, 26, 327-339.

Ayres, K.M., Langone, J., Boon, R.T., & Norman, A. (2006). Computer-based instruction for purchasing skills. Education and Training in Developmental Disabilities, 41, 253-263.

Bates, P.E., Cuvo, T., Miner, C.A., & Korabek, C.A. (2001). A simulated and community-based instruction involving persons with mild and moderate mental retardation. Research in Developmental Disabilities, 22, 95-115.

Bureau of Labor Statistics. (2009). Employment status and disability status, July 2009. Retrieved from http://www.bls.gov/sps/spsdisability_072009.htm.

Carter, E.W., Trainor, A.A., Cakiroglu, O., Cole O., Swedeen, B., Ditchman, N. & Owens, L. (2009). Exploring school-employer partnerships to expand career development and early work experiences for youth with disabilities. Career Development for Exceptional Individuals, 32(3), 145-161.

Casner-Lotto, J. & Barrington, L. (2006). Are they really ready to work? The Conference Board. Retrieved from http://www.conference-board.org/Publications/publicationdetail.cfm?publicationid=1276.

Cihak, D.F., Alberto, P.A., Kessler, K., & Taber, T.A. (2004). An investigation of instructional scheduling arrangements for community based instruction. Research in Developmental Disabilities, 25, 67-88.

Cobb, R.B. & Alwell, M. (2009). Transition planning/coordinating interventions for youth with disabilities: A systematic review. Career Development for Exceptional Individuals, 32, 70-81.

College Board. (2010). The 6th Annual AP report to the nation. Retrieved from http://www.collegeboard.com/html/aprtn/pdf/ap_report_to_the_nation.pdf.

Domzal, C., Houtenville, A., & Sharma, R. (2008). Survey of employer perspectives on the employment of people with disabilities: Technical report. (Prepared under contract to the Office of Disability and Employment Policy, U.S. Department of Labor). McLean, VA: CESSI.

Fixsen, D.L., Blase, K.A., Horner, R., & Sugai, G. (2009). Intensive technical assistance. Scaling Up Brief #2. Chapel Hill: The University of North Carolina, FPG, SISEP.

Fixsen, D.L., Naoom, S.F., Blase, K.A., Friedman, R.M. & Wallace, F. (2005). Implementation research: A synthesis of the literature. Tampa, FL: University of South Florida, Louis de la Parte Florida Mental Health Institute, The National Implementation Research Network (FMHI Publication #231). Retrieved from http://www.fpg.unc.edu/~nirn/resources/publications/Monograph/index.cfm.

Izzo, M.V., Cartledge, G., Miller, L., Growick, B., & Rutkowski, S. (2000). Increasing employment earnings: Extended transition services that make a difference. Career Development for Exceptional Individuals, 23, 139-156.

Karp, M.M., Calcagno, J.C., Hughes, K.L., Jeong, D.W., Bailey, T.R., (2007). The postsecondary achievement of participants in dual enrollment: An analysis of student outcomes in two states. St. Paul, Minnesota: National Research Center for Career and Technical Education, University of Minnesota. Retrieved from http://ccrc.tc.columbia.edu/Publication.asp?UID=547.

Kline, C., & Williams, E. (2007). Transitioning out of high school: A quick stats fact sheet. Washington, DC: National High School Center. Retrieved from http://www.betterhighschools.org/docs/NHSC_TransitionsOutFactSheet.pdf.

Landmark, L.J., Ju, S., Zhang, D. (2010). Substantiated best practices in transition: Fifteen plus years later. Career Development for Exceptional Individuals, 33, 165-176.

Lynn, I. & Mack, D. (2008). Multiple strategies for improving transition outcomes of youth with disabilities: Issue paper on increasing access to apprenticeship opportunities. Washington, DC Institute for Educational Leadership and HeiTech Services, Inc. Retrieved from http://www.dol.gov/odep/categories/youth/apprenticeship/ApprenticeshipIssuePaper.pdf.

National Alliance for Secondary Education and Transition. (2005). National standards and quality indicators. Retrieved from http://www.nasetalliance.org/about/standards.htm.

National Secondary Transition Technical Assistance Center (2009). Analysis of 2007-2008 state annual performance reports for indicator 13. Retrieved from http://www.nsttac.org/indicator13/StatePerformanceReportSummary2009.pdf.

National Secondary Transition Technical Assistance Center (in press). Analysis of 2009-2010 state annual performance reports for indicator 13. Will be available at http://www.nsttac.org/.

Newman, L., Wagner, M., Cameto, R., & Knokey, A.M. (2009). The post-high school outcomes of youth with disabilities up to 4 years after high school. A report of findings from the national longitudinal transition study-2 (NCSER 2009-3017). Menlo Park, CA: SRI International. Retrieved from http://www.nlts2.org/reports/2010_09/nlts2_report_2010_09_complete.pdf.

Pearson, D., Sawyer, J., Park, T., Santamaria, L., van der Mandele, S., Keene, B. & Taylor, M. (2010). Capitalizing on context: Curriculum integration in career and technical education. Louisville, KY: National Research Center for Career and Technical Education, University of Louisville. Retrieved from http://www.nrccte.org/.

Stone, J., Alfeld, C., Pearson, D., Lewis, M., & Jensen, S. (2006). Building academic skills in context: Testing the value of enhanced math learning in CTE (Final study). St. Paul, Minnesota National Research Center for Career and Technical Education. University of Minnesota. Retrieved from http://www.nrccte.org/.

Symonds, W.C., Schwartz, R.B., & Ferguson, R. (2011). Pathways to prosperity: Meeting the challenge of preparing young Americans for the 21st century. Report issued by the Pathways to Prosperity Project, Harvard Graduate School of Education. Retrieved from http://www.gse.harvard.edu/news_events/features/2011/Pathways_to_Prosperity_Feb2011.pdf.

Test, D., Fowler, C., Richter, S.M., White, J., Mazzotti, V., Walker, A.R., Kohler, P., & Kortering, L. (2009). Evidence-based practices in secondary transition. Career Development for Exceptional Individuals, 32(2), 115-128.

Test, D., Mazzotti, V., Mustian, A., Fowler, C., Kortering, L., & Kohler, P. (2009). Evidence-based secondary transition predictors for improving post-school outcomes for students with disabilities. Career Development for Exceptional Individuals, 32(3), 160-181.

Tierney, W.G., Bailey, T., Constantine, J., Finkelstein, N., & Hurd, N.F. (2009). Helping students navigate the path to college: What high schools can do: A practice guide (NCEE #2009-4066). Washington, DC: National Center for Education Evaluation and Regional Assistance, Institute of Education Sciences, U.S. Department of Education. Retrieved from http://ies.ed.gov/ncee/wwc/publications/practiceguides/.

U.S. Department of Education, National Center for Education Statistics. (2004). The condition of education 2004 (NCES 2004-077). Washington, DC: U.S. Government Printing Office. Retrieved from http://nces.ed.gov/pubs2004/2004077.pdf.

Wagner, M., Newman, L., Cameto, R., and Levine, P. (2006). The academic achievement and functional performance of youth with disabilities: A report from the national longitudinal transition study-2 (NLTS2). (NCSER 2006-3000). Menlo Park, CA: SRI International. Retrieved from http://www.nlts2.org/reports/2006_07/nlts2_report_2006_07_complete.pdf.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Cooperative agreement.

Estimated Available Funds: $1,100,000.

Maximum Awards: We will reject any application that proposes a budget exceeding $1,100,000 for a single budget period of 12 months. The Assistant Secretary for Special Education and Rehabilitative Services may change the maximum amount through a notice published in the Federal Register.

Estimated Number of Awards: 1.

Note: The Department is not bound by any estimates in this notice.

Project Period: Up to 36 months.

III. Eligibility Information

1. Eligible Applicants: SEAs; LEAs, including public charter schools that are considered LEAs under State law; IHEs; other public agencies; private nonprofit organizations; outlying areas; freely associated States; Indian tribes or tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the project (see section 682(a)(1)(A) of IDEA).

IV. Application and Submission Information

1. Address to Request Application Package: You can obtain an application package via the Internet, from the Education Publications Center (ED Pubs), or from the program office.

To obtain a copy via the Internet, use the following address: http://www.ed.gov/fund/grant/apply/grantapps/index.html.

To obtain a copy from ED Pubs, write, fax, or call the following: ED Pubs, U.S. Department of Education, P.O. Box 22207, Alexandria, VA 22304. Telephone, toll free: 1-877-433-7827. Fax: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this program or competition as follows: CFDA number 84.326J.

To obtain a copy from the program office, contact the person listed under FOR FURTHER INFORMATION CONTACT in section VII of this notice.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5″ x 11″, on one side only, with 1” margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit.

3. Submission Dates and Times:

Applications Available: August 9, 2011.

Deadline for Transmittal of Applications: September 8, 2011.

Applications for grants under this competition may be submitted electronically using the Grants.gov Apply site, or in paper format by mail or hand delivery. For information (including dates and times) about how to submit your application electronically, or in paper format by mail or hand delivery, please refer to section IV.7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) Be designated by your organization as an Authorized Organization Representative (AOR); and (2) register yourself with Grants.gov as an AOR. Details on these steps are outlined at the following Grants.gov Web page: http://www.Grants.gov/applicants/get_registered.jsp.

7. Other Submission Requirements: Applications for grants under this competition may be submitted electronically or in paper format by mail or hand delivery.

a. Electronic Submission of Applications.

We are participating as a partner in the Governmentwide Grants.gov Apply site. The Transition to College and Careers Center competition, CFDA number 84.326J, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Transition to College and Careers Center competition at http://www.Grants.gov. You must search for the downloadable application package for this program by the CFDA number. Do not include the CFDA number's alpha suffix in your search (e.g., search for 84.326, not 84.326J).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you submit your application in paper format.

• If you submit your application electronically, you must submit all documents electronically, including all information you typically provide on the following forms: The Application for Federal Assistance (SF 424), the Department of Education Supplemental Information for SF 424, Budget Information—Non-Construction Programs (ED 524), and all necessary assurances and certifications.

• If you submit your application electronically, you must attach any narrative sections of your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date. Application Deadline Date Extension in Case of Technical Issues With the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address: U.S. Department of Education, Application Control Center, Attention: (CFDA Number 84.326J), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326J), 550 12th Street, SW., Room 7041, Potomac Center Plaza, Washington, DC 20202-4260.

The Application Control Center accepts hand deliveries daily between 8:00 a.m. and 4:30:00 p.m., Washington, DC time, except Saturdays, Sundays, and Federal holidays. Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under section 682(b) of the IDEA also have placed additional constraints on the availability of reviewers. Therefore, the Department has determined that for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Michael F. Slade, U.S. Department of Education, 400 Maryland Avenue, SW., room 4083, Potomac Center Plaza (PCP), Washington, DC 20202-2550. Telephone: (202) 245-7527.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: August 4, 2011.
Alexa Posny,
Assistant Secretary for Special Education and Rehabilitative Services.

[FR Doc. 2011-20184 Filed 8-8-11; 8:45 am]

BILLING CODE 4000-01-P